DEPARTMENT OF TRANSPORTATION

Federal Aviation Administration

14 CFR Part 39

[Docket No. FAA-2019-0853; Product Identifier 2019-CE-036-AD; Amendment 39-19774; AD 2019-21-08]

RIN 2120-AA64

Airworthiness Directives; Textron Aviation Inc. (Type Certificate Previously Held by Beechcraft Corporation) Airplanes

AGENCY: Federal Aviation Administration (FAA), DOT.

ACTION: Final rule; request for comments.

SUMMARY: The FAA is adopting a new airworthiness directive (AD) for Textron Aviation Inc. (Textron) Models E33, E33A, E33C, F33, G33, 35-C33, 35-C33A, K35, M35, N35, P35, S35, V35, V35A, 36, and certain Models F33A, F33C, V35B, and A36 airplanes. This AD requires inspecting the right aileron flight control cable end fittings (terminal attachment fittings) and replacing any damaged cable assembly. This AD was prompted by reports of cracked and fractured right aileron flight control cable end fittings. The FAA is issuing this AD to address the unsafe condition on these products.

DATES: This AD is effective November 22, 2019.

The FAA must receive comments on this AD by December 23, 2019.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

Examining the AD Docket

You may examine the AD docket on the internet at https://www.regulations.gov by searching for and locating Docket No. FAA-2019-0853; or in person at Docket Operations between 9 a.m. and 5 p.m., Monday through Friday, except Federal holidays. The AD docket contains this final rule, the regulatory evaluation, any comments received, and other information. The street address for the Docket Operations is listed above. Comments will be available in the AD docket shortly after receipt.

FOR FURTHER INFORMATION CONTACT: Alan Levanduski, Aerospace Engineer, Wichita ACO Branch, FAA, 1801 Airport Road, Room 100, Wichita, Kansas 67209; phone: (316) 946-4161; fax: (316) 946-4107; email: alan.levanduski@faa.gov.

SUPPLEMENTARY INFORMATION:

Discussion

Within the last year, the FAA has received an estimated 17 reports of the right aileron flight control cable end fittings failing on Textron Models E33A, S35, V35, and A36 airplanes. There are two different cable assemblies installed on the right aileron flight control system. The forward aileron cable assembly connects the control wheel to the turnbuckle, and the aft aileron cable assembly connects the aileron surface to the turnbuckle. These failures have occurred at the swaged cable end fittings that thread into the turnbuckle. The location of the right aileron cable end fittings, just forward of the aft carry through spar and underneath a heating duct, creates an environment where corrosion may be accelerated. Also, the presence of the turnbuckle safety wire, combined with the location beneath the heating duct, makes corrosion and cracking difficult to detect. Some of the reports of failed cable end fittings revealed that the aileron cables had been held together only by the safety wire, while other reports were of complete aileron cable separation. Because of airplane design similarities, this unsafe condition could also occur on Models E33, E33C, F33, F33A, F33C, G33, 35-C33, 35-C33A, K35, M35, N35, P35, V35A, V35B, and 36.

This condition, if not addressed, could result in failure of the right aileron flight control cable assembly, un-commanded right roll of the airplane, and loss of roll control in the left direction, which may lead to loss of control of the airplane. The FAA is issuing this AD to address the unsafe condition on these products.

FAA's Determination

The FAA is issuing this AD because it evaluated all the relevant information and determined the unsafe condition described previously is likely to exist or develop in other products of the same type design.

AD Requirements

This AD requires inspecting the right aileron flight control cable end fittings that thread into the turnbuckle for corrosion, pitting, and cracks and replacing any damaged cable assembly.

FAA's Justification and Determination of the Effective Date

An unsafe condition exists that requires the immediate adoption of this AD without providing an opportunity for public comments prior to adoption. The FAA has found that the risk to the flying public justifies waiving notice and comment prior to adoption of this rule because the quantity of recent reports of failure of the right aileron flight control cable end fittings necessitates that the corrective actions be accomplished within 30 days. Therefore, the FAA finds good cause that notice and opportunity for prior public comment are impracticable. In addition, for the reasons stated above, the FAA finds that good cause exists for making this amendment effective in less than 30 days.

Comments Invited

This AD is a final rule that involves requirements affecting flight safety and was not preceded by notice and an opportunity for public comment. However, the FAA invites you to send any written data, views, or arguments about this final rule. Send your comments to an address listed under the ADDRESSES section. Include the Docket Number FAA-2019-0853 and Product Identifier 2019-CE-036-AD at the beginning of your comments. The FAA specifically invites comments on the overall regulatory, economic, environmental, and energy aspects of this final rule. The FAA will consider all comments received by the closing date and may amend this final rule because of those comments.

The FAA will post all comments it receives, without change, to https://www.regulations.gov, including any personal information you provide. The FAA will also post a report summarizing each substantive verbal contact it receives about this final rule.

Costs of Compliance

The FAA estimates that this AD affects 4,138 airplanes of U.S. registry.

The FAA estimates the following costs to comply with this AD:

Estimated Costs
Action | Labor cost | Parts cost | Cost per product | Cost on U.S. operators
Inspection of the right aileron cable end fittings | 5 work-hours × $85 per hour = $425 | Not applicable | $425 | $1,758,650

The FAA estimates the following costs to do any necessary replacement that would be required based on the results of the inspection. The FAA has no way of determining the number of airplanes that might need this replacement:

On-Condition Costs
Action | Labor cost | Parts cost | Cost per product
Replacement of a forward aileron cable assembly | 6 work-hours × $85 per hour = $510 | $1,123 | $1,633
Replacement of an aft aileron cable assembly | 4 work-hours × $85 per hour = $340 | $785 | $1,125

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Flexibility Act

The requirements of the Regulatory Flexibility Act (RFA) do not apply when an agency finds good cause pursuant to 5 U.S.C. 553 to adopt a rule without prior notice and comment. Because FAA has determined that it has good cause to adopt this rule without notice and comment, RFA analysis is not required.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2019-21-08 Textron Aviation Inc. (Type Certificate Previously Held by Beechcraft Corporation) Airplanes: Amendment 39-19774; Docket No. FAA-2019-0853; Product Identifier 2019-CE-036-AD.

(a) Effective Date

This airworthiness directive (AD) is effective November 22, 2019.

(b) Affected ADs

None.

(c) Applicability

This AD applies to the following Textron Aviation Inc. (Type Certificate previously held by Beechcraft Corporation) airplanes, certificated in any category:

(1) Models E33, E33A, E33C, F33, G33, 35-C33, 35-C33A, K35, M35, N35, P35, S35, V35, V35A, and 36, all serial numbers (S/Ns);

(2) Model F33A, S/Ns CE-290 through CE-680;

(3) Model F33C, S/Ns CJ-26 through CJ-128;

(4) Model V35B, S/Ns D-9069 through D-9961; and

(5) Model A36, S/Ns E-185 through E-925.

(d) Subject

Joint Aircraft System Component (JASC)/Air Transport Association (ATA) of America Code 2710, Aileron Control System.

(e) Unsafe Condition

This AD was prompted by reports of cracked and fractured right aileron flight control cable end fittings (terminal attachment fittings). The FAA is issuing this AD to detect and address damaged right aileron flight control cable end fittings. The unsafe condition, if not addressed, could result in failure of the right aileron flight control cable assembly, un-commanded right roll of the airplane, and loss of roll control in the left direction, which may lead to loss of control of the airplane.

(f) Compliance

Comply with this AD within the compliance times specified, unless already done.

(g) Inspection

Within 30 days after November 22, 2019 (the effective date of this AD) inspect the forward and aft right aileron flight control cable end fittings that thread into the turnbuckle. To gain access to the end fittings, you must remove the front seats and floorboards and, if installed, the rear seats and under-seat closeout. The end fittings are located underneath the heating duct, just forward of the aft carry through spar.

Note to paragraph (g) of this AD: Adjusting the turnbuckle relative to the end fittings will affect cable tension.

(1) Remove any safety wire from the end fittings and turnbuckle, if installed. Remove any sleeving and tape on the shank of the cable end fittings without gouging or scratching the fitting surface.

(2) Using a 10X magnification, a mirror, and a light source, inspect all exposed surfaces of both control cable end fittings for cracks, pitting, and corrosion.

(h) Follow-On Actions

Before further flight after the inspection required by paragraph (g) of this AD, do one of the following actions, as applicable:

(1) If there are no cracks, no pitting, and no corrosion, check cable tension and make any necessary adjustments, and replace safety wire; or

(2) If there is a crack or any pitting or corrosion, replace any damaged cable assembly.

(i) Credit for Previous Actions

(1) If you performed the actions required by paragraphs (g) and (h) of this AD before November 22, 2019 (the effective date of this AD) using one of the following documents, you met the requirements of this AD:

(i) American Bonanza Society (ABS) Air Safety Foundation Beechcraft Control Cable Turn Buckle Inspection Recommendation, dated February 8, 2019;

(ii) ABS Air Safety Foundation Recommended Beechcraft Control Cable Turnbuckle Inspection, Update 1, dated February 20, 2019; or

(iii) ABS Air Safety Foundation Recommended Beechcraft Control Cable Turnbuckle Inspection, Update 2, dated August 8, 2019.

(2) The ABS Air Safety Foundations recommended inspection documents are available on the internet at https://www.regulations.gov by searching for and locating Docket No. FAA-2019-0853. You may also obtain copies of these documents by contacting the ABS at American Bonanza Society, 3595 N Webb Road, Suite 200, Wichita, KS 67226; email: info@bonanza.org; telephone: (316) 945-1700; fax: (316) 945-1710; or internet: https://www.bonanza.org/.

(j) Alternative Methods of Compliance (AMOCs)

(1) The Manager, Wichita ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k) of this AD.

(2) Before using any approved AMOC, notify your appropriate principal inspector, or lacking a principal inspector, the manager of the local flight standards district office/certificate holding district office.

(k) Related Information

For more information about this AD, contact Alan Levanduski, Aerospace Engineer, Wichita ACO Branch, FAA, 1801 Airport Road, Room 100, Wichita, Kansas 67209; phone: (316) 946-4161; fax: (316) 946-4107; email: alan.levanduski@faa.gov.

Issued in Kansas City, Missouri, on November 1, 2019.
Pat Mullen,
Manager, Aircraft Certification Service, Small Airplane Standards Branch, AIR-690.

[FR Doc. 2019-24325 Filed 11-6-19; 8:45 am]

BILLING CODE 4910-13-P